NUCLEAR REGULATORY COMMISSION

[Docket No. 72-20]

Notice of Issuance of Amendment to Materials License SNM-2508, Department of Energy, TMI-2 Independent Spent Fuel Storage Installation

The Nuclear Regulatory Commission (NRC or the Commission) has issued Amendment 2 to Materials License No. SNM-2508 held by the U.S. Department of Energy (DOE) for the receipt, possession, storage and transfer of spent fuel in an independent spent fuel storage installation (ISFSI) located at the Idaho National Engineering and Environmental Laboratory (INEEL), within the Idaho Nuclear Technology and Engineering Center (INTEC) site in Scoville, Idaho. The amendment is effective as of the date of issuance.

By application dated August 30, 2000, as supplemented May 11 and 24, 2001, DOE requested an amendment to its ISFSI license to include a Safeguards Information Protection Plan per 10 CFR 73.21(h), to be added as an Appendix to the existing Physical Protection Plan.

This amendment complies with the standards and requirements of the Atomic Energy Act of 1954, as amended (the Act), and the Commission's rules and regulations. The Commission has made appropriate findings as required by the Act and the Commission's rules and regulations in 10 CFR Ch. I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

The Commission has determined that, pursuant to 10 CFR 51.22(c)(12), an environmental assessment need not be prepared in connection with issuance of the amendment.

The NRC maintains an Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS, contact the NRC Public Document Room (PDR) Reference staff at 1-800-397-4209, 301-415-4737 or by email to pdr@nrc.gov.

Dated at Rockville, Maryland, this 14th day of June 2001.
For the Nuclear Regulatory Commission.
Charles L. Miller,
Acting Director, Spent Fuel Project Office, Office of Nuclear Material Safety and Safeguards.

[FR Doc. 01-16101 Filed 6-26-01; 8:45 am]

BILLING CODE 7590-01-P